U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission. The Commission is mandated by Congress to investigate, assess, and report to Congress annually on “the national security implications of the economic relationship between the United States and the People's Republic of China.” Pursuant to this mandate, the Commission will hold a public hearing in Washington, DC on June 15, 2023 on “Europe, the United States, and Relations with China: Convergence or Divergence?”

DATES: The hearing is scheduled for Thursday, June 15, 2023 at 9:30 a.m.

ADDRESSES: Members of the public will be able to attend in person at TBD or view a live webcast via the Commission's website at www.uscc.gov. Visit the Commission's website for updates to the hearing location or possible changes to the hearing schedule. Reservations are not required to view the hearing online or in person.

FOR FURTHER INFORMATION CONTACT: Any member of the public seeking further information concerning the hearing should contact Jameson Cunningham, 444 North Capitol Street NW, Suite 602, Washington, DC 20001; telephone: 202-624-1496, or via email at jcunningham@uscc.gov. Reservations are not required to attend the hearing.

ADA Accessibility: For questions about the accessibility of the event or to request an accommodation, please contact Jameson Cunningham via email at jcunningham@uscc.gov. Requests for an accommodation should be made as soon as possible, and at least five business days prior to the event.

SUPPLEMENTARY INFORMATION:

Background: This is the sixth public hearing the Commission will hold during its 2023 reporting cycle. The hearing will start with an overview of Europe-China relations, including Europe's view of China, China's view of Europe, and perspectives on China from Germany and the Czech Republic. Next, the hearing will evaluate European approaches to addressing China in the economic and technological domains, while comparing these approaches to those of the United States and exploring the space for Transatlantic cooperation. Finally, the hearing will examine European approaches to addressing China on strategic issues, and will also compare these approaches to the United States' and examine the potential for Transatlantic cooperation.

The hearing will be co-chaired by Commissioner Aaron Friedberg and Commissioner James Mann. Any interested party may file a written statement by June 15, 2023 by transmitting to the contact above. A portion of the hearing will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: May 26, 2023.
Daniel W. Peck,
Executive Director, U.S.-China Economic and Security Review Commission.

[FR Doc. 2023-11707 Filed 5-31-23; 8:45 am]

BILLING CODE 1137-00-P